DEPARTMENT OF HEALTH AND HUMAN SERVICES

Centers for Disease Control and Prevention

Disease, Disability, and Injury Prevention and Control Special Emphasis Panel: Multi-Level Parent Training Effectiveness Trial, Program Announcement #02072, and Parenting Program Attrition and Compliance Efficacy Trial, Program Announcement #02123; Correction

Summary: This notice was published in the Federal Register on July 9, 2002, Volume 67, Number 131, Page 45524. The meeting times have been revised.

In accordance with section 10(a)(2) of the Federal Advisory Committee Act (Pub. L. 92-463), the Centers for Disease Control and Prevention (CDC) announces the following meeting:

Name: Disease, Disability, and Injury Prevention and Control Special Emphasis Panel (SEP): Multi-Level Parent Training Effectiveness Trial, Program Announcement #02072, and Parenting Program Attrition and Compliance Efficacy Trial, Program Announcement #02123.

Action: The meeting times have been revised as follows:

Times and Dates: 6:30 p.m.-7 p.m., July 28, 2002 (Open); 7 p.m.-9:30 p.m., July 28, 2002 (Closed); 8:30 a.m.-5 p.m., July 29, 2002 (Closed).

Place: The Westin Hotel (Atlanta Airport) 4736 Best Road, Atlanta, GA 30337; Phone: (404) 762-7676.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to PA# 02072 & PA# 02123.

Contact Person for More Information: Dr. Joanne Klevens, Epidemiologist, National Center for Injury Prevention and Control, CDC, 2939 Flowers Road, Atlanta, Georgia 30341; (770) 488-4330.

The Director, Management Analysis and Services Office has been delegated the authority to sign Federal Register notices pertaining to announcements of meetings and other committee management activities, for both the Centers for Disease Control and Prevention and the Agency for Toxic Substances and Disease Registry.

Dated: July 12, 2002.
Joe Salter,
Acting Director, Management Analysis and Services Office, Centers for Disease Control and Prevention (CDC).

[FR Doc. 02-18107 Filed 7-17-02; 8:45 am]

BILLING CODE 4163-18-P